SECURITIES AND EXCHANGE COMMISSION

[Release No. 34-78405; File No. SR-BX-2016-044]

Self-Regulatory Organizations; NASDAQ BX, Inc.; Notice of Filing and Immediate Effectiveness of Proposed Rule Change To Update Public Disclosure of Exchange Usage of Market Data

July 25, 2016.

Correction

In notice document 2016-17908 appearing on pages 50041-50042 in the issue of July 29, 2016, make the following correction:

On page 50041, in the first column, the File No. in the heading is corrected to read as set forth above.

[FR Doc. C1-2016-17908 Filed 8-4-16; 8:45 am]

BILLING CODE 1505-01-D